CONSUMER PRODUCT SAFETY COMMISSION

CPSC Webinar on Improvements to SaferProducts.gov

AGENCY: Consumer Product Safety Commission.

ACTION: Notice of meeting.

SUMMARY: The U.S. Consumer Product Safety Commission (CPSC or Commission) will hold a public webinar to receive information from interested parties about updates CPSC is making to www.SaferProducts.gov/Business for electronically filed section 15(b) reports under the Consumer Product Safety Act (CPSA). The presentation will focus on section 15(b) reporting for the purposes of entering the Fast Track Recall Program.

DATES: The webinar will be from 1:00 p.m. to 3:00 p.m. Eastern Standard Time (EST) on April 28, 2021.

ADDRESSES: Attendees must pre-register for the webinar. To pre-register for the webinar, please visit: https://register.gotowebinar.com/register/4712726053154742796 and fill in the information. After registering, you will receive a confirmation email containing information about joining the webinar.

FOR FURTHER INFORMATION CONTACT: Alberta E. Mills, Division of the Secretariat, U.S. Consumer Product Safety Commission, 4330 East West Highway, Bethesda, MD 20814; email: cpsc-os@cpsc.gov; telephone: (301) 504-7479.

SUPPLEMENTARY INFORMATION:

I. Background

Section 15(b) of the CPSA (15 U.S.C. 2051-2089) requires every manufacturer of a consumer product, or other product or substance over which the Commission has jurisdiction under any other act enforced by the Commission, distributed in commerce, and every distributor or retailer of such product, to immediately report to the Commission when it obtains certain information. 15 U.S.C. 2064(b). Specifically, such reporting is required when manufacturers, distributors, or retailers obtain information that reasonably supports the conclusion that a product:

• Fails to comply with an applicable consumer product safety rule or with a voluntary consumer product safety standard that the Commission relied on under Section 9 of the CPSA (15 U.S.C. 2058);

• fails to comply with any other rule, regulation, standard, or ban under the CPSA or any other act the Commission enforces;

• contains a defect which could create a substantial product hazard (i.e., a product defect which (because of the pattern of defect, the number of defective products distributed in commerce, the severity of the risk, or otherwise) creates a substantial risk of injury to the public)); or

• creates an unreasonable risk of serious injury or death.

15 U.S.C. 2064(b). This reporting is required unless the manufacturer, distributor, or retailer has actual knowledge that the Commission has been adequately informed of such defect, such failure to comply, or such risk. Id. Manufacturers, distributors, and retailers can submit Section 15(b) reports to CPSC at: www.SaferProducts.gov/Business.

When submitting a Section 15(b) report through www.SaferProducts.gov/Business, manufacturers, distributors, and retailers may elect to participate in the Fast Track Recall Program, which is an alternative procedure for recalling products reported under Section 15(b) of the CPSA. 62 FR 39827 (July 24, 1997).

On March 6, 2019, CPSC held a public hearing to receive information from interested parties about possible changes to www.SaferProducts.gov to improve the website's usefulness and ease of use. 84 FR 3134 (Feb. 11, 2019). CPSC will hold a public webinar on April 28, 2021 on further enhancements, focusing on Section 15(b) reporting for purposes of entering the Fast Track Recall Program.

II. Webinar

A. Topics for Discussion

Participants who register for the webinar will have an opportunity to see the improvements to www.SaferProducts.gov/Business and provide feedback to CPSC through a moderated discussion. CPSC would like to hear from manufacturers, distributors, and retailers that have participated in the Fast Track Recall Program, including those who use www.SaferProducts.gov/Business to report potentially defective or hazardous products to CPSC. The goal of the webinar is to receive feedback on these updates and to assess the impact, if any, that the improvements will have on the website's utility and usability and the Fast Track Recall Program.

B. How To Attend and/or Provide Comments

If you would like to participate in the webinar, please register at: https://register.gotowebinar.com/register/4712726053154742796. The webinar will be held online on April 28, 2021, from 1:00 p.m. to 3:00 p.m. EST. Online participant viewers will be able to interact with the presenters through the webinar software. The webinar software allows for communicating with the presenters orally and in written format. CPSC staff will take questions and comments during the webinar, as time permits.

Alberta E. Mills,
Secretary, Consumer Product Safety Commission.

[FR Doc. 2021-07401 Filed 4-9-21; 8:45 am]

BILLING CODE 6355-01-P